DEPARTMENT OF JUSTICE

Antitrust Division

Notice Pursuant to the National Cooperative Research and Production Act of 1993—The Asymmetrical Digital Subscriber Line Forum

Notice is hereby given that, on July 7, 1999, pursuant to Section 6(a) of the National Cooperative Research and Production Act of 1993, 15 U.S.C. 4301 et seq. (“Act”), The Asymmetrical Digital Subscriber Line Forum (“ADSL”) has filed written notifications simultaneously with the Attorney General and the Federal Trade Commission disclosing changes in its membership status. The notifications were filed for the purpose of extending the Act's provisions limiting the recovery of antitrust plaintiffs to actual damages under specified circumstances. Specifically, Catena Technologies, Kanata, Ontario, Canada; Earthlink, Pasadena, CA; East by North, Halifax, Nova Scotia, Canada; Netopia, Alameda, CA; Secre Composants S.A., Pontault, Comboerl, France; WCI Cable, Dover, DE; and Telecordia Technologies, Morristown, NJ have been added as parties to this venture. Also, Accelerated Networks, Inc., Westlake Village, CA; Advanced Hardware Architectures, Pullman, WA; Amphenol Canada Corp., Scarborough, Ontario, Canada; Applied Innovation, Dublin, OH; Ascend Communications, Westford, MA; Bellcore, Morristown, NJ; Cirrus Logic, Fremont, CA; Communications Technology, Inc., Cranbery, NJ; Escalate Networks, Irvine, CA; Flowpoint Corp., Los Gatos, CA; General Signal Networks, Westford, MA; GenRad, Inc., Westford, MA; Globaloop, Ltd., Kfar Sava, Israel; Global Village Communication, Sunnyvale, CA; Iterated Systems, Atlanta, GA; KTL, Arnhem, The Netherlands; Madge Networks, Wexham, England, United Kingdom; Milgo Solutions, Inc., Sunrise, FL; Robertson, Stephens & Co., San Francisco, CA; Shasta Networks, Menlo Park, CA; Telia AB, Stockholm, Sweden; Torrent Networking Technologies, Silver Spring, MD; Tut Systems, Inc., Pleasant Hill, CA; and Web Silicon, Los Gatos, CA have been dropped as parties to this venture.

No other changes have been made in either the membership or planned activity of the group research project. Membership in this group research project remains open, and ADSL intends to file additional written notifications disclosing all changes in membership.

On May 15, 1995, ADSL filed its original notification pursuant to Section 6(a) of the Act. The Department of Justice published a notice in the Federal Register pursuant to Section 6(b) of the Act on July 25, 1995 (60 FR 338058).

The last notification was filed with the Department on March 23, 1999. A notice was published in the Federal Register pursuant to Section 6(b) of the Act on June 1, 1999 (64 FR 29356).

Constance K. Robinson,
Director of Operations, Antitrust Division.

[FR Doc. 00-28180 Filed 11-1-00; 8:45 am]

BILLING CODE 4410-11-M